DEPARTMENT OF COMMERCE

International Trade Administration

Southern Illinois University, et al.; Notice of Decision on Applications for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Ave., NW., Washington, DC 20230.

Comments: None received. Decision: Approved. Reasons: We know of no instruments of equivalent or comparable scientific value to the foreign instruments described below, for the intended purposes, that were being manufactured in the United States at the time of their order.

Docket Number: 11-032. Applicant: Southern Illinois University, Integrated Microscopy and Graphic Expertise (IMAGE) Center, 750 Communications Drive—Mailcode 4402, Carbondale, IL 62901. Instrument: Quanta 450 scanning electron microscope. Manufacturer: FEI Company, Czech Republic. Intended Use: See application notice at 76 FR 39070, July 5, 2011.

Docket Number: 11-037. Applicant: Tulane University, 6823 St. Charles Avenue, New Orleans, LA 70118. Instrument: Field-emission transmission electron microscope. Manufacturer: FEI Company, the Netherlands. Intended Use: See application notice at 76 FR 39070, July 5, 2011.

Docket Number: 11-038. Applicant: Battelle Memorial Institute, Pacific Northwest National Laboratory, 3335 Q Avenue, Richland, WA 99354. Instrument: Scanning transmission electron microscope. Manufacturer: FEI Company, the Netherlands. Intended Use: See application notice at 76 FR 39070, July 5, 2011.

Dated: July 28, 2011.
Supriya Kumar,
Acting Director, Subsidies Enforcement Office, Office of Policy, Import Administration.

[FR Doc. 2011-19932 Filed 8-5-11; 8:45 am]

BILLING CODE 3510-DS-P